DEPARTMENT OF DEFENSE

Department of the Navy

2014 Institutional Accreditation of the U.S. Naval War College by the Commission on Institutions of Higher Education, New England Association of Schools and Colleges

AGENCY: Department of the Navy, DoD.

ACTION: Notice of public comment period.

SUMMARY: The U.S. Naval War College will undergo a comprehensive evaluation visit on November 2-5, 2014, by a team representing the Commission on Institutions of Higher Education (CIHE) of the New England Association of Schools and Colleges.

CIHE is one of seven accrediting commissions in the United States that provide institutional accreditation on a regional basis. Accreditation is voluntary and applies to the institution as a whole. The Commission, which is recognized by the U.S. Department of Education, accredits approximately 240 institutions in the six-state New England region.

The Naval War College has been accredited by the Commission since 1989 and was last reviewed in 2004. Its accreditation by the New England Association encompasses the entire institution.

For the past year and one half, the Naval War College has been engaged in a process of self-study, addressing the Commissions's Standards for Accreditation. An evaluation team will visit the institution to gather evidence that the self-study is thorough and accurate. The team will recommend to the Commission a continuing status for the institution. Following a process review, the Commission itself will take the final action.

The public is invited to submit comments regarding the institution to: Public Comment on the Naval War College, Commission on Institutions of Higher Education, New England Association of Schools and Colleges, 3 Burlington Woods Drive, Suite 100, Burlington, MA 01803-4514, Email: cihe@neasc.org.

Public comments must address substantive matters related to the quality of the institution. The Commission cannot settle disputes between individuals and institutions, whether those involve faculty, students, administrators, or members of other groups. Comments will not be treated as confidential and must include the name, address, and telephone number of the person providing the comments. Public comments must be received by November 5, 2014. The Commission cannot guarantee that comments received after that date will be considered.

FOR FURTHER INFORMATION CONTACT: Mr. Richard R. Menard, Office of the Provost, U.S. Naval War College, 686 Cushing Road, Newport, RI 02841; email richard.menard@usnwc.edu; 401-841-7004.

Dated: September 24, 2014.
P.A. Richelmi,
Lieutenant, Office of the Judge Advocate General, U.S. Navy, Alternate Federal Register Liaison Officer.

[FR Doc. 2014-23387 Filed 9-30-14; 8:45 am]

BILLING CODE 3810-FF-P